DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2006, there were three applications approved. This notice also includes information on three applications, one approved in August 2006 and the other two approved in October 2006, inadvertently left off the August 2006 and October 2006 notices, respectively. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Dubuque Regional Airport Commission, Dubuque, Iowa.

Application Number: 06-08-C-00-DBQ.

Application Type: Impose and use a PFC.

PFC Level: $4.50.

Total PFC Revenue Approved in This Decision: $288,718.

Earliest Charge Effective Date: November 1, 2006.

Estimated Charge Expiration Date: March 1, 2008.

Class of Air Carriers Not Required to Collect PFC's: On-demand air taxi/commercial operations.

Determination: Approved. Based on information contained in the public agency's application, the FAA has determined that the approved class accounts for less than 1 percent of the total annual enplanements at Dubuque Regional Airport.

Brief Description of Projects Approved for Collection and Use:

Snow removal equipment.

Secondary radar equipment.

Master drainage study.

PFC administration.

Runway safety area.

Land acquisition.

Runway 31 parallel and connecting taxiways.

Terminal schematic/site design,

Decision Date: August 16, 2006.

FOR FURTHER INFORMATION CONTACT: Lorna Sandridge, Central Region Airports Division, (816) 329-2641.

Public Agency: City of Lynchburg, Virginia.

Application Number: 06-05-U-00-LYH.

Application Type: Use PFC revenue.

PFC Level: $4.50.

Total PFC Revenue to be Used in This Decision: $1,560,000.

Charge Effective Date: May 1, 2005.

Estimated Charge Expiration Date: November 1, 2010.

Class of Air Carriers Not Required to Collect PFC's: No change from previous decision.

Brief Description of Projects Approved for Use:

Runway 4/22 extension (phase IV construction).

Rehabilitation of hangars 7 and 8 ramp.

Decision Date: October 4, 2006.

FOR FURTHER INFORMATION CONTACT: Luis Loarte, Washington Airports District Office, (703) 661-1365.

Public Agency: City of Rapid City, South Dakota.

Application Number: 07-04-C-00-RAP.

Application Type: Impose and use a PFC.

PFC Level: $4.50.

Total PFC Revenue Approved in this Decision: $1,401,088.

Earliest Charge Effective Date: May 1, 2007.

Estimated Charge Expiration Date: September 1, 2008.

Class of Air Carriers not Required to Collect PFC's: Air taxi/commercial operators filing FAA Form 1800-31.

Determination: Approved. Based on information contained in the public agency's application, the FAA has determined that the approved class accounts for less than 1 percent of the total annual enplanements at Rapid City Regional Airport.

Brief Description of Projects Approved for Collection and Use:

Terminal security modifications (exit lane).

Taxiway A separation, environmental assessment, phases 1 through 4.

General aviation area lighting improvements.

Airport master plan.

General aviation 1 ramp strengthening.

Baggage claim carousel 2 installation.

Regional boarding bridge.

Decision Date: October 30, 2006.

FOR FURTHER INFORMATION CONTACT: Thomas Schauer, Bismarck Airports District Office, (713) 323-7383.

Public Agency: City of Pocatello, Idaho.

Application Number: 07-05-C-00-PIH.

Application Type: Impose and use a PFC.

PFC Level: $4.50.

Total PFC Revenue Approved in this Decision: $405,300.

Earliest Charge Effective Date: April 1, 2008.

Estimated Charge Expiration Date: June 1, 2011.

Class of Air Carriers Not Required to Collect PFC's Non-scheduled air taxi/ commercial operators, utilizing aircraft having a seating capacity of less than 20 passengers.

Determination Approved. Based on information contained in the public agency's application, the FAA has determined that the approved class accounts for less than 1 percent of the total annual enplanements at Pocatello Regional Airport.

Brief Description of Project Approved for Collection and Use:

Rehabilitate runway 17/35.

Reconstruct terminal auto parking.

Replacement of midfield runway 17/35 circuit.

Terminal rehabilitation.

PFC administration costs.

Decision Date: November 13, 2006.

FOR FURTHER INFORMATION CONTACT: Suzanne Lee-Pang, Seattle Airports District Office, (425) 227-2654.

Public Agency: City of Chicago, Illinois.

Application Number: 06-11-C-00-MDW.

Application Type: Impose and use a PFC.

PFC Level: $3.00.

Total PFC Revenue Approved in This Decision: $1,300,000.

Earliest Charge Effective Date: February 1, 2040.

Estimated Charge Expiration Date: March 1, 2040.

Class of Air Carriers Not Required to Collect PFC's: Air taxi.

Determination: Approved. Based on information contained in the public agency's application, the FAA has determined that the approved class accounts for less than 1 percent of the total annual enplanements at Chicago Midway International Airport (MDW).

Brief Description of Project Approved for Collection at MDW and Use at Gary/Chicago International Airport:

Railroad relocation and runway extension.

Decision Date: November 17, 2006.

FOR FURTHER INFORMATION CONTACT: Gregory Sweeny, Chicago Airports District Office, (847) 294-7526.

Public Agency: City of Chicago, Illinois.

Application Number: 06-18-C-00-ORD.

Application Type: Impose and use a PFC.

PFC Level: $3.00

Total PFC Revenue Approved in this Decision: $8,200,000.

Earliest Charge Effective Date: June 1, 2016.

Estimated Charge Expiration Date: July 1, 2016.

Class of Air Carriers not Required to Collect PFC's: Air taxi.

Determination: Approved. Based on information contained in the public agency's application, the FAA has determined that the approved class accounts for less than 1 percent of the total annual enplanements at Chicago O'Hare International Airport (ORD).

Brief Description of Project Approved for Collection at ORD and Use at Gary/Chicago International Airport:

Railroad relocation and runway extension.

Decision Date: November 17, 2006.

FOR FURTHER INFORMATION CONTACT: Gregory Sweeny, Chicago Airports District Office, (847) 294-7526.

Amendment to PFC Approvals
Amendment No., city, state | Amendment approved date | Original approved net PFC revenue | Amended approved net PFC revenue | Original estimated charge exp. date | Amended estimated charge exp. date
05-08-C-01-BGM, Binghampton, NY | 11/01/06 | $1,356,196 | $1,360,195 | 02/01/08 | 02/01/08
04-07-C-01-JNU, Juneau, AK | 11/03/06 | $4,706,313 | $5,143,039 | 04/01/09 | 09/01/09
91-01-C-07-LAS, Las Vegas, NV* | 11/03/06 | 849,713,056 | 849,713,056 | 07/01/11 | 07/01/09
03-03-C-02-ERI, Erie, PA | 11/03/06 | 669,555 | 618,885 | 01/01/05 | 01/01/05
05-05-U-01-ERI, Erie, PA | 11/03/06 | NA | NA | 01/01/05 | 01/01/05
00-03-C-03-BHM, Birmingham, AL | 11/06/06 | 15,100,000 | 14,075,718 | 11/01/03 | 11/01/03
02-06-C-04-JNU, Juneau, AK | 11/06/06 | 2,589,669 | 716,769 | 05/01/05 | 05/01/05
97-01-C-02-GPZ, Grand Rapids, MN | 11/07/06 | 1,297,059 | 151,263 | 05/01/31 | 01/01/07
01-06-C-01-MFR, Medford, OR | 11/09/06 | 271,648 | 270,317 | 07/01/03 | 07/01/03
95-04-I-02-MDW, Chicago, IL** | 11/17/07 | 149,227,344 | 347,160,810 | 12/01/09 | 11/01/12
Notes:
The amendment denoted by an asterisk (*) includes a change to the PFC level charged from $3.00 per enplaned passenger to $4.00 per enplaned passenger. For Las Vegas, NV, this change is effective on January 1, 2007.
The amendment denoted by a double asterisk (**) includes a change to the PFC level charged from $3.00 per enplaned passenger to $4.50 per enplaned passenger. For Chicago Midway International Airport, Chicago, IL, this change is effective on January 1, 2007.

Dated: Issued in Washington, DC, on January 3, 2007.
Joe Hebert,
Manager, Financial Analysis and Passenger Facility Charge Branch.

[FR Doc. 07-47 Filed 1-9-06; 8:45 am]

BILLING CODE 4910-13-M